DEPARTMENT OF COMMERCE

National Oceanic and Atmospheric Administration

[I.D. 080703A]

Marine Mammals; File No. 358-1585-04

AGENCY: National Marine Fisheries Service (NMFS), National Oceanic and Atmospheric Administration (NOAA), Commerce.

ACTION: Issuance of permit amendment.

SUMMARY: Notice is hereby given that the Alaska Department of Fish and Game, P.O. Box 25526, Juneau, Alaska 99802-5526 [Principal Investigator: Robert Small, Ph.D.] has been issued an amendment to scientific research Permit No. 358-1585-02 as amended by a minor change [No. -03].

ADDRESSES: The amendment and related documents are available for review upon written request or by appointment in the following office(s):

Permits, Conservation and Education Division, Office of Protected Resources, NMFS, 1315 East-West Highway, Room 13705, Silver Spring, MD 20910; phone (301)713-2289; fax (301)713-0376; and

Assistant Regional Administrator for Protected Resources, Alaska Region, NMFS, P.O. Box 21668, Juneau, AK 99802-1668; phone (907)586-7235; fax (907)586-7012.

FOR FURTHER INFORMATION CONTACT: Ruth Johnson or Carrie Hubard, (301)713-2289.

SUPPLEMENTARY INFORMATION: On June 7, 2003, notice was published in the Federal Register (68 FR 33477) that an amendment of Permit No. 358-1585, issued September 30, 2002 (67 FR 64098), had been requested by the above-named organization. The requested amendment has been granted under the authority of the Marine Mammal Protection Act of 1972, as amended (16 U.S.C. 1361 et seq.) and the Regulations Governing the Taking and Importing of Marine Mammals (50 CFR part 216).

The amendment authorizes the Holder to conduct additional activities on harbor seals that include: permanently marking females that receive implanted VHF transmitters to enable identification from a distance without further disturbance to determine if female has a pup; applying a Passive Integrated Transponder (PIT) tag to identify recaptured individuals to assess change in health or contaminant loads over time; using ultrsound to diagnose pregnancy and reproductive condition of females; attaching a sonic tag for realtime tracking of foraging behavior while simultaneously conducting acoustical surveys of prey availability; and attaching an Underwater Timed Picture Recorder (UTPR) with Time Depth Recorder to view prey selection and readily calculate pursuit and handling times.

Dated: September 9, 2003.
Stephen L. Leathery,
Chief, Permits, Conservation and Education Division, Office of Protected Resources, National Marine Fisheries Service.

[FR Doc. 03-23765 Filed 9-16-03; 8:45 am]

BILLING CODE 3510-22-S